DEPARTMENT OF DEFENSE

Defense Acquisition Regulations System

Information Collection Requirement; Defense Federal Acquisition Regulation Supplement; Substitutions for Military or Federal Specifications and Standards (OMB Control Number 0704-0398)

AGENCY: Defense Acquisition Regulations System, Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through September 30, 2007. This proposal also includes 1,124 burden hours related to alternate preservation, packaging, and packing, presently approved under OMB Control Number 0704-0187 for use through February 28, 2009. DoD proposes that OMB extend its approval for these collections for 3 additional years.

DATES: DoD will consider all comments received by July 23, 2007.

ADDRESSES: You may submit comments, identified by OMB Control Number 0704-0398, using any of the following methods:

• Federal eRulemaking Portal: http://www.regulations.gov. Follow the instructions for submitting comments.

• E-mail: dfars@osd.mil. Include OMB Control Number 0704-0398 in the subject line of the message.

• Fax: (703) 602-7887.

• Mail: Defense Acquisition Regulations System, Attn: Ms. Amy Williams, OUSD(AT&L)DPAP(DARS), IMD 3C132, 3062 Defense Pentagon, Washington, DC 20301-3062.

• Hand Delivery/Courier: Defense Acquisition Regulations System, Crystal Square 4, Suite 200A, 241 18th Street, Arlington, VA 22202-3402.

Comments received generally will be posted without change to http://www.regulations.gov, including any personal information provided.

FOR FURTHER INFORMATION CONTACT: Ms. Amy Williams, (703) 602-0328. The information collection requirements addressed in this notice are available on the World Wide Web at: http://www.acq.osd.mil/dpap/dars/dfars/index.htm. Paper copies are available from Ms. Amy Williams, OUSD (AT&L) DPAP (DARS), IMD 3C132, 3062 Defense Pentagon, Washington, DC 20301-3062.

SUPPLEMENTARY INFORMATION: Title and OMB Number: Defense Federal Acquisition Regulation Supplement (DFARS) Sections 211.272, Alternate Preservation, Packaging, and Packing, and 211.273, Substitutions for Military or Federal Specifications and Standards, and related clauses at DFARS 252.211-7004 and 252.211-7005; OMB Control Number 0704-0398.

Needs and Uses: This information collection permits offerors to propose alternatives to military preservation, packaging, or packing specifications. DoD uses the information in the offeror's proposal to determine if the alternate preservation, packaging, or packing will meet the Government's needs. In addition, this information collection permits offerors to propose Single Process Initiative (SPI) processes as alternatives to military or Federal specifications and standards cited in DoD solicitations for previously developed items. DoD uses the information in the offeror's proposal to verify Government acceptance of an SPI process as a valid replacement for a military or Federal specification or standard.

Affected Public: Businesses or other for-profit institutions.

Annual Burden Hours: 1,724.

Number of Respondents: 581.

Responses per Respondent: Approximately 3.

Annual Responses: 1,762.

Average Burden per Response: Approximately 1 hour.

Frequency: On occasion.

Summary of Information Collection

The provision at DFARS 252.211-7004, Alternate Preservation, Packaging, and Packing, is used in solicitations that include military preservation, packaging, or packing specifications, when it is feasible for DoD to evaluate and award using commercial or industrial preservation, packaging, or packing. If the offeror chooses to propose alternate preservation, packaging, or packing, the provision requires the offeror to submit information sufficient to allow evaluation of the proposed commercial or industrial preservation, packaging, or packing.

The clause at DFARS 252.211-7005, Substitutions for Military or Federal Specifications and Standards, is used in solicitations and contracts for previously developed items. The clause encourages offerors to propose management or manufacturing processes, that have been previously accepted by DoD under the SPI program, as alternatives to military or Federal specifications and standards cited in the solicitation. An offeror proposing to use an SPI process must—

(1) Identify the specific military or Federal specification or standard for which the SPI process has been accepted;

(2) Identify each facility at which the offeror proposes to use the SPI process in lieu of military or Federal specifications or standards cited in the solicitation;

(3) Identify the contract line items, subline items, components, or elements affected by the SPI process; and

(4) If the proposed SPI process has been accepted at the facility at which it is proposed for use, but is not yet listed at the SPI Internet site, submit documentation of DoD acceptance of the SPI process.

Michele P. Peterson,
Editor, Defense Acquisition Regulations System.

[FR Doc. E7-9745 Filed 5-21-07; 8:45 am]

BILLING CODE 5001-08-P